DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: 2007 National Survey on Drug Use and Health—(OMB No. 0930-0110)—Revision

The National Survey on Drug Use and Health (NSDUH), formerly the National Household Survey on Drug Abuse (NHSDA) is a survey of the civilian, non-institutionalized population of the United States 12 years old and older. The data are used to determine the prevalence of use of tobacco products, alcohol, illicit substances, and illicit use of prescription drugs. The results are used by SAMHSA, ONDCP, Federal government agencies, and other organizations and researchers to establish policy, direct program activities, and better allocate resources.

With the exception of the addition of several follow-up questions on methamphetamine use, no changes to the questionnaire are proposed for the 2007 NSDUH. The proposed additional questions (age at first use and frequency of use in the past 12 months) will be asked of respondents who denied use of methamphetamine in the “core” NSDUH because they didn't think of it as a prescription drug, but in a later series of questions admit to use (Respondents who report use of methamphetamine in the “core” already receive questions on age at first use and frequency of use). The additional burden associated with the new questions will be negligible because only a small subset of the sample will receive them.

As with all NSDUH/NHSDA surveys conducted since 1999, the sample size of the survey for 2007 will be sufficient to permit prevalence estimates for each of the fifty states and the District of Columbia. The total annual burden estimate is shown below:

Activity | Number of respondents | Number of responses per respondent | Average burden hours per respondent | Total burden hours
Household Screening | 182,250 | 1 | .083 | 15,127
Interview | 67,500 | 1 | 1.0 | 67,500
Screening Verification | 5,559 | 1 | .067 | 372
Interview Verification | 10,125 | 1 | .067 | 678
Total | 182,250 |  |  | 83,677

Send comments to Summer King, SAMHSA Reports Clearance Officer, Room 7-1044, One Choke Cherry Road, Rockville, MD 20857. Written comments should be received within 60 days of this notice.

Dated: March 24, 2006.
Anna Marsh,
Director, Office of Program Services.

[FR Doc. E6-4705 Filed 3-30-06; 8:45 am]

BILLING CODE 4162-20-P